DEPARTMENT OF THE INTERIOR

National Park Service

[2253-665]

Notice of Intent To Repatriate Cultural Items: San Francisco State University, San Francisco, CA

AGENCY: National Park Service, Interior.

ACTION: Notice.

SUMMARY: The San Francisco State University, in consultation with the appropriate Indian tribes, has determined that the cultural items meet the definition of sacred objects and repatriation to the Indian tribes stated below may occur if no additional claimants come forward. Representatives of any Indian tribe that believes itself to be culturally affiliated with the cultural items may contact the San Francisco State University.

DATES: Representatives of any Indian tribe that believes it has a cultural affiliation with the cultural items should contact the San Francisco State University at the address below by April 16, 2012.

ADDRESSES: Jeffrey Boland Fentress, San Francisco State University, Academic Affairs-ADM 447, San Francisco, CA 94132, telephone (415) 338-3075.

SUPPLEMENTARY INFORMATION: Notice is here given in accordance with the Native American Graves Protection and Repatriation Act (NAGPRA), 25 U.S.C. 3005, of the intent to repatriate cultural items in the possession of the San Francisco State University (SFSU) that meet the definition of sacred objects under 25 U.S.C. 3001.

This notice is published as part of the National Park Service's administrative responsibilities under NAGPRA, 25 U.S.C. 3003(d)(3). The determinations in this notice are the sole responsibility of the museum, institution or Federal agency that has control of the Native American cultural items. The National Park Service is not responsible for the determinations in this notice.

History and Description of the Cultural Items

At an unknown date, a basket (item 1-3-42/86) was donated to the SFSU Treganza Museum. The coiled basket with a bundle warp in a round, shouldered, small necked shape measures 14 cm in height and 10.5 cm in diameter and is made of deer grass, sedge, redbud and bracken fern root. There are no records at the Treganza Museum concerning acquisition of this item.

Based on consultation with the Santa Rosa Indian Community of the Santa Rosa Rancheria, California, (Tachi Yokut Tribe) and ethnographic research, the basket has been identified as a stair-step coming of age basket. This type of basket was given to either a boy or girl by a female relative after completion of the coming of age ceremony. This type of basket often held special personal religious items such as crystals, beads, feathers or tobacco.

In 1976, Margaret Molarsky donated a basket (item 1-3-42/104) to the SFSU Treganza Museum. The donor records state it was originally in the collection of Frank Latta. The coiled basket with a bundle warp in a flared bowl shape measures 22 cm in height with a maximum diameter of 44 cm and is made of deer grass, saw grass, redbud and bracken fern root. A tag attached to the basket was labeled “Wahnomkot, Yokuts, c. 1925.”

Based on consultation with the Santa Rosa Indian Community of the Santa Rosa Rancheria, California, (Tachi Yokut Tribe) and ethnographic research, the basket has been identified as a ceremonial cooking basket for the Yokut Spring Ceremony. The name on the basket tag, Wahnomkot, also known as Aida Icho, has been identified as a Wukchumne Yokut basket weaver. This type of basket uses a design with multiple bands of rattlesnakes and was used to prepare special foods and carry religious items.

At an unknown date, a basket (item 1-3-42/75) was donated to the SFSU Treganza Museum. The coiled basket, closed stitched, with a three-stick warp in a round, shouldered, bottle-neck shape measures 20 cm in height with a maximum diameter of 18 cm and is made of deer grass, sedge, redbud and bracken fern root. A row on the shoulder was decorated with dyed red wool and quail top-knot feathers. There are no records at the Treganza Museum concerning acquisition of this item.

Based on consultation with the Santa Rosa Indian Community of the Santa Rosa Rancheria, California, (Tachi Yokut Tribe) and ethnographic research, the basket has been identified as a rattlesnake treasure basket. This type of basket held special items such as abalone pendants and anklets that protected the dancers during the Rattlesnake Spring Ceremony.

At an unknown date, a basket (item 73-5-5) was donated to the SFSU Treganza Museum. The coiled basket, gap stitched, with a bundle warp in a flared bowl shape measures 16.5 cm in height with a maximum diameter of 31.6 cm and is made of deer grass and redbud. There are no records at the Treganza Museum concerning acquisition of this cultural item.

Based on consultation with the Santa Rosa Indian Community of the Santa Rosa Rancheria, California, (Tachi Yokut Tribe) and ethnographic research, the basket has been identified as an offering basket that was filled with food offerings to be left at sacred sites and burial grounds.

In 1977, Margaret Molarsky donated a basket (item 77-01-2) to the SFSU Treganza Museum. The coiled basket, gap stitched, with a bundle warp in a flared bowl shape measures 15.8 cm in height with a maximum diameter of 30.5 cm and is made of deer grass, sedge, redbud and bracken fern.

Based on consultation with the Santa Rosa Indian Community of the Santa Rosa Ranc heria, California, (Tachi Yokut Tribe) and ethnographic research, the basket has been identified as an offering basket that was filled with food offerings to be left at sacred sites and burial grounds.

In 1977, Margaret Molarsky donated a basket (item 77-01-3) to the SFSU Treganza Museum. The coiled basket, gap stitched, with a bundle warp in a large flared bowl shape measures 18 cm in height with a maximum diameter of 46.5 cm and is made of deer grass, sedge and redbud.

Based on consultation with the Santa Rosa Indian Community of the Santa Rosa Rancheria, California (Tachi Yokut Tribe), and ethnographic research, the basket has been identified as a ceremonial cooking basket for the Yokut Spring Ceremony. This type of basket was used for preparing or serving special foods during ceremonies or religious rites.

Determinations Made by the San Francisco State University

Officials of the San Francisco State University have determined that:

• Pursuant to 25 U.S.C. 3001(3)(C), the six cultural items described above are specific ceremonial objects needed by traditional Native American religious leaders for the practice of traditional Native American religions by their present-day adherents.

• Pursuant to 25 U.S.C. 3001(2), there is a relationship of shared group identity that can be reasonably traced between the six baskets and the Santa Rosa Indian Community of the Santa Rosa Rancheria, California, (Tachi Yokut Tribe).

Additional Requestors and Disposition

Representatives of any other Indian tribe that believes itself to be culturally affiliated with the sacred objects should contact Jeffrey Boland Fentress, San Francisco State University, Academic Affairs-ADM 447, San Francisco, CA 94132, telephone (415) 338-3075 before April 16, 2012. Repatriation of the sacred objects to the Santa Rosa Indian Community of the Santa Rosa Rancheria, California, (Tachi Yokut Tribe) may proceed after that date if no additional claimants come forward.

The San Francisco State University is responsible for notifying the Picayune Rancheria of Chukchansi Indians of California; Santa Rosa Indian Community of the Santa Rosa Rancheria, California, (Tachi Yokut Tribe); Table Mountain Rancheria of California; and the Tule River Indian Reservation of the Tule River Reservation, California, that this notice has been published.

Dated: March 12, 2012.
Sherry Hutt,
Manager, National NAGPRA Program.

[FR Doc. 2012-6325 Filed 3-15-12; 8:45 am]

BILLING CODE 4312-50-P